DEPARTMENT OF TRANSPORTATION

Federal Aviation Administration

Aviation Insurance Incremental Premium Reimbursement

AGENCY: Federal Aviation Administration (FAA), DOT.

ACTION: Notice.

SUMMARY: The Air Transportation System Safety and Stabilization Act of September 22, 2001 authorized the FAA to reimburse qualifying air carriers for the difference in insurance premiums paid as a result of increases resulting from the premium increases experienced after the September 11 New York City terrorists attacks. The FAA will provide stabilizing reimbursement payments to aid the carrier's financial recovery. The FAA is publishing the contents of a letter it has distributed and notice of the internet web access which explains the process for a carrier to apply for reimbursement.

FOR FURTHER INFORMATION CONTACT: Ms. Nan Shellabarger, Office of Aviation Policy and Plans, APO-2, Federal Aviation Administration, 800 Independence Ave., SW., Washington, DC 20591, telephone: (202) 267-3275.

SUPPLEMENTARY INFORMATION: Pursuant to section 201(b)(1) of the Air Transportation System Safety and Stabilization Act, (Pub. L. No. 107-42, 115 Stat. 230, Sept. 22, 2001), the Federal Aviation Administration's Aviation Insurance Program hereby offers to partially reimburse your company for the increases in the war risk insurance premiums above that paid by your company for comparable operations during the period beginning on September 4, 2001, and ending on September 10, 2001. This offer is subject to final funding availability.

The attached letter and application can also be viewed on the web at: http://api/hq.faa.gov/911/policies/inscover.html.

Issued in Washington, DC, on October 29, 2001.
John M. Rodgers,
Director, Office of Aviation Policy and Plans.

Date: October 26, 2001

TO: U.S. Air Carriers

Aviation Insurance Incremental Premium Reimbursement

Dear Air Carrier Insurance Representative: Pursuant to section 201(b)(1) of the Air Transportation System Safety and Stabilization Act, (Pub. L. No. 107-42, 115 Stat. 230, Sept. 22, 2001), the Federal Aviation Administration's Aviation Insurance Program hereby offers to partially reimburse your company for the increases in the war risk insurance premiums above that paid by your company for comparable operations during the period beginning on September 4, 2001, and ending on September 10, 2001. This offer is subject to final funding availability.

This reimbursement will only cover premium increases—

(a) for coverage against loss or damage arising out of war risks from the operation of an “American aircraft,” as that term is defined at 49 USC 44301(1); and

(b) for the thirty-day period beginning at 12:01 a.m. on the day following the cancellation of the war risk insurance that was in effect for your company on September 11, 2001, and ending at 12:00 midnight on the thirtieth day following.

To request this reimbursement, follow the instructions below. You must submit your request for reimbursement with appropriate documentation for receipt by the FAA by close of business November 2, 2001, to be eligible for this reimbursement. Fax or e-mail requests are allowed, but must be followed by original documents sent via express courier or mail.

A final determination of the amount of payment for reimbursement will be made by the FAA after November 2 when all applications for reimbursement shall have been received and the sum of requests for reimbursement is known. The amount of reimbursement will be pro-rated based on the availability of funds for this purpose in the Aviation Insurance Revolving Fund. Additional payments may be made from the Revolving Fund as additional amounts become available from the “2001 Emergency Supplemental Appropriations Act for Recovery from and Response to Terrorist Attacks on the United States”.

Instructions for Application for Reimbursement

1. Complete the attached invoice with the following information.

A. Airline Name.

B. FAA Reference Number—R-AI-02-[use your two digit airline code].

C. Taxpayer Identification Number.

D. Company Invoice Number. This is your company's invoice number issued to FAA.

E. (1) Enter the dates for the thirty-day period beginning at 12:01 a.m. on the day following the cancellation of the war risk insurance that was in effect for your company on September 11, 2001, and ending at 12 midnight on the thirtieth day following.

(2) Amount—Enter the pro-rata average daily premium information for the two time periods as requested, calculate the difference and multiply by 30 to reach the total: Round to the nearest whole dollar: $000,000.

F. Electronic fund transfer information for your bank account for FAA's deposit.

(1) Bank name

(2) Bank address

(3) Bank ABA routing number

(4) Account Name

(5) Account Number

G. Fleet Certification—Fill in the correct percent (%) of “American aircraft” in your fleet as defined at 49 USC 44301(1). (See Frequently Asked Questions for definition)

H. Statement of Certification—By signing on line I (below this statement) you are certifying the invoiced amount is accurate under penalty of 18 USC 1001.

I. Signature of appropriate corporate official.

2. Supply us with the name, phone number, and e-mail address of the appropriate person(s) to contact if we have specific questions about the invoice.

3. Provide a copy of your FAA air carrier certificate.

4. Provide a copy of your insurance company's invoice showing the insurance premium for war risk hull and/or liability that was in effect for comparable operations during the period beginning September 4, 2001, and ending September 10, 2001.

5. Provide a copy of your insurance company's invoice showing the insurance premium increase for war risk after September 11, 2001.

If your company's invoices are not consistent with our request, provide a written statement from your insurer as to the war risk premium(s) prior to September 11, 2001 and premium(s) after September 11, 2001 on a pro-rata daily basis and calculate the difference.

Return of Documents

Please respond to this letter by e-mail or fax to the Aviation Insurance representative assigned to your company at (202) 267-3324 or (202) 267-5370 or (202) 267-3278. (If you have not yet had a representative assigned to your company, email to 9-awa-apo-aviation-insurance@faa.gov, or fax to one of the above numbers.) Follow the electronic response by sending the original invoice to FAA at the address below. (As of this writing, U.S. mail delivery in the Washington, DC area is disrupted, so you may wish to use a private service.)

Federal Aviation Administrator, Attn: [insurance representative's name], Aviation Insurance, APO-3 (Room 939), 800 Independence Ave., SW., Washington, DC 20591

Your request for reimbursement will be reviewed promptly by the Aviation Insurance Program staff. We anticipate that your reimbursement will be issued within four to six weeks of receipt of your e-mail or fax request. Please contact your Aviation Insurance representative with any questions you may have regarding the documentation required or the status of your reimbursement.

Sincerely,

John M. Rodgers,

Director of Aviation Policy and Plans.

Application for Incremental War Risk Insurance Premium Reimbursement.

To: Aviation Insurance Department, APO-3, Federal Aviation Administration, 800 Independence Avenue, SW, Room 939, Washington, DC 20591

A: Airline Name

B: FAA Reference Number:

R-AI-02 __ (two digit airline code)

C: Taxpayer Identification Number

D: Company Invoice Number

E1: Charges for incremental war risk premium reimbursement, covering

period______, 2001 through ______, 2001 (not to exceed 30 days)

E2:

War Risk Premium Prior to Sept. 11, 2001

Avg Daily Rate

Hull $

Liability $

Total $

War Risk Premium After Sept. 11, 2001

Avg Daily Rate

Hull $

Liability $

Total $

Difference

Avg Daily Rate

Hull $

Liability $

Total $

Total Difference Multiplied by 30 days

Total 30 Day Premium Reimbursement Request $______ (Round to nearest whole dollar)

F 1: Bank Name

F 2: Bank Address

F 3: Bank ABA routing number

F 4: Account Name

F 5: Account Number

G: I certify that the percentage of “American aircraft” as defined at 49 U.S.C. 44301(1) covered by the insurance for which premium reimbursement is requested is ______%

(100% or some lessor number)

H: I certify that the forgoing charges are true and correct and that payment therefore has not yet been received for such charges from the Federal Aviation Administration. The information supplied in this certification subjects the affirmant to the provisions of 18 USC 1001.

I: Signed: Name and title of certifying corporate official

[FR Doc. 01-27475 Filed 10-31-01; 8:45 am]

BILLING CODE 4910-13-M